DEPARTMENT OF STATE

[Public Notice 4349]

Advisory Committee on International Economic Policy Notice of Open Meeting

The Advisory Committee on International Economic Policy (ACIEP) will meet from 9 a.m. to 12 noon on Wednesday, June 4, 2003 in Suite 602, Elliott School of International Affairs, George Washington University, 1957 E Street NW, Washington, DC 20052. The meeting will be hosted by Assistant Secretary of State for Economic and Business Affairs E. Anthony Wayne and Committee Chairman R. Michael Gadbaw.

The ACIEP serves the U.S. Government in a solely advisory capacity concerning issues and problems in international economic policy. Proposed topics for the March 6 meeting are rebuilding Iraq and subcommittee reports.

The public may attend these meetings as seating capacity allows. The media are welcome but discussions are off the record. For individuals interested in attending, please provide your name, title, company, or other affiliation, if appropriate, to the Advisory Committee Executive Secretariat by fax (202) 647-5936 (Attention: Gwendolyn Jackson); Tel: (202) 647-0847; or e-mail: (jacksongl@state.gov) by May 30, 2003.

For further information about the meeting, please contact Eliza Koch, ACIEP Secretariat, Office of Economic Policy and Public Diplomacy, Bureau of Economic and Business Affairs, U.S. Department of State, Room 3526, 2201 C Street NW, Washington, DC 20520, Tel (202) 647-1310.

Dated: May 15, 2003.
Eliza Koch,
ACIEP Secretariat, Office of Economic Policy and, Public Diplomacy Bureau of Economic Affairs, Department of State.

[FR Doc. 03-12677 Filed 5-19-03; 8:45 am]

BILLING CODE 4710-07-P